DEPARTMENT OF AGRICULTURE

Federal Crop Insurance Corporation

7 CFR Part 457

[Docket ID FCIC-21-0007]

RIN 0563-AC75

Common Crop Insurance Regulations; Apple Crop Insurance Provisions

AGENCY: Federal Crop Insurance Corporation, U.S. Department of Agriculture (USDA).

ACTION: Proposed rule; extension of comment period.

SUMMARY: The Federal Crop Insurance Corporation (FCIC) is extending the comment period for an additional 60 days to provide the public more time to provide comments on the proposed rule to amend the Common Crop Insurance Regulations, Apple Crop Insurance Provisions. The additional comment period will end on April 15, 2022.

DATES: The comment date for the proposed rule published December 16, 2021, at 86 FR 71396 is extended. We will consider comments received by April 15, 2022.

ADDRESSES: We invite you to submit comments on this rule. You may submit comments by either of the following methods, although FCIC prefers that you submit comments electronically through the Federal eRulemaking Portal:

• Federal eRulemaking Portal: Go to http://www.regulations.gov and search for Docket ID FCIC-21-0007. Follow the instructions for submitting comments.

• Mail: Director, Product Administration and Standards Division, Risk Management Agency (RMA), U.S. Department of Agriculture, P.O. Box 419205, Kansas City, MO 64141-6205. In your comment, specify docket ID FCIC-21-0007.

• Comments will be available for viewing online at www.regulations.gov.

FOR FURTHER INFORMATION CONTACT: Francie Tolle; telephone (816) 926-7829; or email francie.tolle@usda.gov. Persons with disabilities who require alternative means for communication should contact the USDA Target Center at (202) 720-2600 (voice).

SUPPLEMENTARY INFORMATION: FCIC is extending the comment period on the Apple proposed rule that published on December 16, 2021 (86 FR 71396-71406). The comment period was initially scheduled to close on February 14, 2022. FCIC is extending the comment period and will accept comments received by April 15, 2022.

Based on several requests received during the initial comment period, FCIC is giving the public additional time to provide comments on the proposed rule. This extension allows interested persons additional time to familiarize themselves with the proposed rule and its implications and to prepare and submit comments regarding the proposed rule.

Marcia Bunger,
Manager, Federal Crop Insurance Corporation.

[FR Doc. 2022-01566 Filed 1-26-22; 8:45 am]

BILLING CODE 3410-08-P